DEPARTMENT OF HOUSING AND URBAN DEVELOPMENT

[Docket No. FR-4652-N-12]

Notice of Proposed Information Collection for Public Comment—Section 5(h) Homeownership Program for Public and Indian Housing: Submission of Plan, Reporting

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: August 6, 2001.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Section 5(h) Homeownership Program for Public and Indian Housing: submission of plan, reporting.

OMB Control Number: 2577-0201.

Description of the need for the information and proposed use: Housing Agencies (HAs), to participate in this Program will submit plans to HUD to sell public and Indian housing to residents of the housing. The homeownership plans must meet criteria established in HUD regulations and residents must be involved in plan development. HUD will review and approve or disapprove the plan and notify PHAs of their action. PHAs will maintain records which may be subject to audit by HUD and the Government Accounting Office (GAO). In cases where implementation of the plan takes more than one year, PHAs will prepare annual reports and submit them to HUD.

Agency form numbers, if applicable: None.

Members of affected public: State or Local Government; individuals or households.

Estimation of the total number of hours needed to prepare the information collection including number of respondents, frequency of response, and hours of response: 73 responses for a three-year period, on occasion, 73 total responses, 76 average hours per response, 5,548 total reporting burden hours.

Status of the proposed information collection: Extension.

Authority: Section 3506 of the Paperwork Reduction Act of 1995, 44 U.S.C. Chapter 35, as amended.

Dated: May 31, 2001.
Gloria Cousar,
Acting General Deputy, Assistant Secretary for Public and Indian Housing.

[FR Doc. 01-14121 Filed 6-4-01; 8:45 am]

BILLING CODE 4210-33-M